DEPARTMENT OF THE INTERIOR

Office of the Secretary

[A10-2006-1010-000-00-0-0, 2015200]

Notice of Availability of the Final Environmental Impact Statement/Environmental Impact Report for Klamath Facilities Removal

AGENCY: Office of Environmental Policy and Compliance, Interior.

ACTION: Notice of availability.

SUMMARY: The Department of the Interior and the California Department of Fish and Wildlife have prepared a final environmental impact statement and environmental impact report (EIS/EIR) evaluating the potential effects of removing four privately owned dams on the Klamath River in southern Oregon and northern California should the Secretary of the Interior determine that removal will advance restoration of salmonid fisheries in the Klamath Basin and is in the public interest. The Department of the Interior has released the final EIS/EIR pursuant to the requirements of the National Environmental Policy Act and the Klamath Hydroelectric Settlement Agreement. The California Department of Fish and Wildlife is not releasing the document at this time, therefore there is no action under California Environmental Quality Act at this time. Additionally, no decision on the potential removal of these facilities is being made with the release of this document.

DATES: Under the terms of the Klamath Hydroelectric Settlement Agreement, congressional authorization is necessary prior to a decision on the proposed action. Because Congress has not enacted the legislation necessary to authorize a Secretarial Determination, the Department of the Interior will not make a final decision on the proposed action at this time.

ADDRESSES: The final EIS/EIR may be viewed and electronically downloaded at http://klamathrestoration.gov. To request a compact disc of the final EIS/EIR, please contact Ms. Elizabeth Vasquez, Bureau of Reclamation, 2800 Cottage Way, Sacramento, CA 95825; email KlamathSD@usbr.gov; or telephone 916-978-5040. See the Supplementary Information section for locations where copies of the final EIS/EIR are available for public review.

FOR FURTHER INFORMATION CONTACT: Ms. Elizabeth Vasquez, Bureau of Reclamation, 916-978-5040, evasquez@usbr.gov. For public involvement information, please contact Mr. Matt Baun, U.S. Fish and Wildlife Service, 530-841-3119, Matt_Baun@fws.gov.

SUPPLEMENTARY INFORMATION: The Department of the Interior (Department) and the California Department of Fish and Wildlife (CDFW) have prepared an EIS/EIR for Klamath Facilities Removal. The EIS/EIR evaluates potential effects of the proposed removal of four PacifiCorp dams on the Klamath River in southern Oregon and northern California. The proposed removal would be in accordance with the Klamath Hydroelectric Settlement Agreement (KHSA). The KHSA established a process for studies and environmental review, leading to a Secretarial Determination on whether removal of the dams will accomplish the following:

(1) Advance restoration of salmonid (salmon, steelhead, and trout) fisheries of the Klamath River Basin; and

(2) Be in the public interest, including, but not limited to, consideration of potential impacts on affected local communities and Tribes.

The Klamath Basin Restoration Agreement (KBRA) provides for restoration of native fisheries and sustainable water supplies throughout the Klamath River Basin. Together, these two agreements attempt to resolve long-standing conflicts in the Klamath River Basin.

The KHSA, pursuant to its terms, requires certain criteria to be met prior to a determination as to whether these privately owned dams should be removed. One such criterion is for the enactment of legislation by the Congress authorizing the Secretary of the Interior (Secretary) to make this decision. Because legislation has not been enacted, the Department is not making any decision regarding the potential removal of these privately owned facilities. Nonetheless, the Department also believes that release of this final EIS/EIR will help inform public discourse at the federal, state and local levels.

While CDFW has participated in the development of this joint EIS/EIR, the release of this document at this time is solely pursuant to NEPA. Questions regarding the application of CEQA to this EIS/EIS should be directed to CDFW.

Statement of Purpose and Need and Proposed Action

The proposed action is to remove the four lower PacifiCorp dams on the Klamath River in accordance with the KHSA. The need for the proposed action is to advance restoration of the salmonid fisheries in the Klamath Basin consistent with the KHSA and the connected KBRA. The purpose is to achieve a free-flowing river condition and full volitional fish passage as well as other goals expressed in the KHSA and KBRA. Under the terms of the KHSA, the Secretary will determine whether the proposed action is appropriate and should proceed. In making this determination, the Secretary will consider whether removal of the four private facilities will advance the restoration of the salmonid fisheries of the Klamath Basin, and is in the public interest, which includes, but is not limited to, consideration of potential impacts on affected local communities and Tribes.

The EIS/EIR and its related processes were developed to accomplish the following:

• Inform the Secretary's decision on whether to approve the proposed removal of the four PacifiCorp dams, consistent with the KHSA and the connected KBRA;

• Provide meaningful opportunities for involvement by Tribes, agencies, and the public;

• Analyze and disclose the effects of the proposed action and alternatives on the human and physical environment, including, but not limited to, effects on biological resources, historic and archaeological resources, geomorphology, flood hydrology, water quality, air quality, public safety, hazardous materials and waste, visual resources, socioeconomics, real estate, tribal trust, recreation, and environmental justice;

• Meet the requirements of Section 106 of the National Historic Preservation Act, in lieu of the procedures set forth in 36 CFR §§ 800.3 through 800.6, pursuant to 36 CFR 800.8; and

• Comply with NEPA and the California Environmental Quality Act (CEQA).

The public review period of the draft EIS/EIR opened with a Notice of Availability of the draft EIS/EIR, published in the Federal Register on Thursday, September 22, 2011 (76 FR 58833). A second notice was published on Thursday, December 1, 2011 to provide the public an additional 30 days to submit written comments (77 FR 74804). The public review period ended on December 30, 2011. During the public review period, six public meetings were held in California and Oregon to solicit comments. Over 4,000 verbal and written comments were received. The final EIS/EIR considers comments received and responds, as appropriate, with text revisions, clarifications, and corrections. The final EIS/EIR is divided into three volumes: Volumes I and II comprise the revised EIS/EIR and appendices, with actual text changes resulting from responses to comments; Volume III provides responses to all comments received, as well as an appendix with copies of each comment letter or communication.

Copies of the final EIS/EIR are available for public inspection at several libraries and government offices. A full list of locations where the final EIS/EIR is available for public inspection can be found at http://klamathrestoration.gov. Following is a partial list of the locations:

• Main Siskiyou County Library, 719 Fourth Street, Yreka, CA 96097

• Main Klamath County Library, 126 South Third Street, Klamath Falls, OR 97601

• Arcata Library, 500 7th Street, Arcata, CA 95521

• Main Humboldt County Library, 1313 3rd Street, Eureka, CA 95501

• Hoopa Library, Loop Rd. & Orchard Street, Hoopa, CA 95546

• Willow Creek Library Branch, Junction of Highways 299 & 96, Willow Creek, CA 95573

• Main Del Norte County Library, 190 Price Mall, Crescent City, CA 95531

• Medford Library Branch, 205 South Central Avenue, Medford, OR 97501

• Ashland Library Branch, 410 Siskiyou Boulevard, Ashland, OR 97520

• Chetco Community Public Library, 405 Alder Street, Brookings, OR 97415

• Bureau of Reclamation, 2800 Cottage Way, MP-152, Sacramento, CA 95825

• California Department of Fish and Wildlife, 619 Second Street, Eureka, CA 95501

• Natural Resources Library, Department of the Interior, 1849 C Street NW., Main Interior Building, Washington, DC 20240-0001

• Bureau of Reclamation, Klamath Basin Area Office, 6600 Washburn Way, Klamath Falls, OR 97603.

Public Disclosure

Before including your address, phone number, email address, or other personal identifying information in any communication, you should be aware that your entire communication—including your personal identifying information—may be made publicly available at any time. While you can ask us in your communication to withhold your personal identifying information from public review, we cannot guarantee that we will be able to do so.

Dated: May 10, 2013.
Willie R. Taylor,
Director, Office of Environmental Policy and Compliance.

[FR Doc. 2013-12675 Filed 5-28-13; 8:45 am]

BILLING CODE 4310-MN-P